FEDERAL ELECTION COMMISSION

Sunshine Act Meeting

DATE & TIME: Tuesday, December 11, 2001 at 10:00 A.M.

PLACE: 999 E Street, NW., Washington, DC.

STATUS: This Meeting Will Be Closed to the Public.

ITEMS TO BE DISCUSSED:

Compliance matters pursuant to 2 U.S.C. § 437g

Audits conducted pursuant to 2 U.S.C. § 437g, § 438(b), and Title 26, U.S.C.

Matters concerning participation in civil actions or proceedings or arbitration

Internal personnel rules and procedures or matters affecting a particular employee

DATE & TIME: Thursday, December 13, 2001 at 10:00 A.M.

PLACE: 999 E Street, NW., Washington, DC (Ninth Floor).

STATUS: This Meeting Will Be Open to the Public

ITEMS TO BE DISCUSSED:

Correction and Approval of Minutes

Election of Officers

Service Awards

Future Meeting Dates

Revised Draft Advisory Opinion 2001-16: Democratic National Committee by counsel, Joseph E. Sandler and Neil Reiff

Voting System Standards—Release for Public Comment

Administrative Matters

PERSON TO CONTACT FOR INFORMATION: Mr. Ron Harris, Press Officer Telephone: (202) 694-1220.

Mary W. Dove,
Secretary of the Commission.

[FR Doc. 01-30347 Filed 12-4-01; 11:07 am]

BILLING CODE 6715-01-M